GENERAL SERVICES ADMINISTRATION

Office of Governmentwide Policy; Cancellation of an Optional Form by the Department of State

AGENCY: Office of Governmentwide Policy, GSA.

ACTION: Notice.

SUMMARY: The Department of State cancelled the following Optional Form due to low demand in the Federal Supply Service: OF 233, Consular Cash Receipt and Record of Fees.

DATES: Effective March 19, 2004.

FOR FURTHER INFORMATION CONTACT: Mr. Charles Cunningham, Department of State, (202) 312-9605.

Dated: March 4, 2004.
Barbara M. Williams,
Deputy Standard and Optional Forms Management Officer, General Services Administration.

[FR Doc. 04-6190 Filed 3-18-04; 8:45 am]

BILLING CODE 6820-34-M